DEPARTMENT OF ENERGY

Federal Energy Regulatory Commission

[Docket No. CP24-512-000]

Texas Connector Pipeline, LLC; Notice of Schedule for the Preparation of an Environmental Assessment for the Texas Connector Amendment Project

On August 12, 2024, Texas Connector Pipeline, LLC (Texas Connector) filed an application with the Federal Energy Regulatory Commission (Commission or FERC), in Docket No. CP24-512-000, requesting authorization pursuant to Section 7(c) of the Natural Gas Act to construct and operate certain natural gas facilities in Jefferson and Orange Counties, Texas. The Commission had authorized the Port Arthur Liquefaction Project (PALP, Docket No. CP17-20-000), on April 18, 2019. On May 25, 2023, in Docket No. CP17-21-003 et al., the Commission issued an Order Issuing Certificate, Amending Certificate, and Approving Abandonment, authorizing among other things, the abandonment by transfer from PALP of the Texas Connector Project (Project) to Texas Connector. The current application seeks to amend those Project facilities.

On August 16, 2024, the FERC issued its Notice of Application for the amended Project. Among other things, that notice alerted agencies issuing Federal authorizations of the requirement to complete all necessary reviews and to reach a final decision on a request for a Federal authorization within 90 days of the date of issuance of the Commission staff's environmental document for the Project.

This notice identifies Commission staff's intention to prepare an environmental assessment (EA) for the Project and the planned schedule for the completion of the environmental review.¹ The EA will be issued for a 30-day comment period.

¹ In accordance with the Council on Environmental Quality's regulations, the unique identification number for documents relating to this environmental review is EAXX-019-20-000-1731674078. 40 CFR 1501.5(c)(4) (2024).

Schedule for Environmental Review

Issuance of EA March 21, 2025

90-day Federal Authorization Decision Deadline ² June 19, 2025

² The Commission's deadline applies to the decisions of other Federal agencies, and State agencies acting under federally delegated authority, that are responsible for Federal authorizations, permits, and other approvals necessary for proposed projects under the Natural Gas Act. Per 18 CFR 157.22(a), the Commission's deadline for other agency's decisions applies unless a schedule is otherwise established by Federal law.

If a schedule change becomes necessary, additional notice will be provided so that the relevant agencies are kept informed of the Project's progress.

Project Description

Texas Connector seeks to modify the Project facilities originally authorized in 2019 as follows.

• The Southern Compressor Station would not be constructed, and the original site of the Southern Compressor Station would be utilized for a laydown yard and access road.

• The southern pipeline segment (Southern Segment) would decrease in length from 7.6 miles to 1.4 miles.

• Compression at the Northern Compressor Station (renamed Orangefield Compressor Station) would increase from three natural gas-driven turbine compressors rated at 16,684 hp each, to four SolarTitan 130 Gas Turbine driven compressors rated at approximately 24,009 hp each.

• The footprint and configuration of the Orangefield Compressor Station would shift slightly north and west and increase in size from 40 acres to 82.4 acres.

• The northern pipeline segment (Northern Segment) would increase in length from 26.6 miles to 29.6 miles and include several modifications to the alignment and workspace to accommodate landowner requests and development within the previously authorized right-of-way.

• Texas Connector proposes to use about 16,320 feet of the Big Hill Bayou south of Taylor Bayou and South Mansfield Ferry Road Canal as a water access routes. Big Hill Bayou would require dredging to facilitate vessel transit.

• The KMPL Meter Station would not be constructed.

The purpose of Project is to implement construction efficiencies to enhance the overall constructability of the previously authorized Texas Connector Project at various locations.

Background

On November 18, 2024, the Commission issued a Notice of Scoping Period Requesting Comments on Environmental Issues for the Proposed Texas Connector Amendment Project (Notice of Scoping). The Notice of Scoping was sent to affected landowners; Federal, State, and local government agencies; elected officials; environmental and public interest groups; potentially interested Indian tribes; other interested parties; and local libraries and newspapers. As of today's notice, the Commission has received no comments from any parties in response to the Notice of Scoping.

No agencies volunteered to cooperate with the FERC in the preparation of the EA. All substantive environmental issues identified by staff will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Additional information about the Project is available from the Commission's Office of External Affairs at (866) 208-FERC or on the FERC website (www.ferc.gov). Using the “eLibrary” link, select “General Search” from the eLibrary menu, enter the selected date range and “Docket Number” excluding the last three digits (i.e., CP24-512), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: December 4, 2024.
Carlos D. Clay,
Acting Deputy Secretary.

[FR Doc. 2024-28964 Filed 12-9-24; 8:45 am]

BILLING CODE 6717-01-P